Title 3—

The President

Proclamation 9047 of October 31, 2013

Critical Infrastructure Security and Resilience Month, 2013

By the President of the United States of America

A Proclamation

Over the last few decades, our Nation has grown increasingly dependent on critical infrastructure, the backbone of our national and economic security. America's critical infrastructure is complex and diverse, combining systems in both cyberspace and the physical world—from power plants, bridges, and interstates to Federal buildings and the massive electrical grids that power our Nation. During Critical Infrastructure Security and Resilience Month, we resolve to remain vigilant against foreign and domestic threats, and work together to further secure our vital assets, systems, and networks.

As President, I have made protecting critical infrastructure a top priority. Earlier this year, I signed a Presidential Policy Directive to shore up our defenses against physical and cyber incidents. In tandem with my Executive Order on cybersecurity, this directive strengthens information sharing within my Administration and between the Federal Government and its many critical infrastructure partners, while also ensuring strong privacy protections. Because of the interconnected nature of our critical infrastructure, my Administration will continue to work with businesses and industry leaders and build on all the great work done to date. With these partners, and in cooperation with all levels of government, we will further enhance the security and resilience of our critical infrastructure.

We must continue to strengthen our resilience to threats from all hazards including terrorism and natural disasters, as well as cyber attacks. We must ensure that the Federal Government works with all critical infrastructure partners, including owners and operators, to share information effectively while jointly collaborating before, during, and after an incident. This includes working with infrastructure sectors to harden their assets against extreme weather and other impacts of climate change.

Emerging and evolving threats require the engagement of our entire Nation—from all levels of government to the private sector and the American people. This month, as we recognize that safeguarding our critical infrastructure is an economic and security imperative, let each of us do our part to build a more resilient Nation.

NOW, THEREFORE, I, BARACK OBAMA, President of the United States of America, by virtue of the authority vested in me by the Constitution and the laws of the United States, do hereby proclaim November 2013 as Critical Infrastructure Security and Resilience Month. I call upon the people of the United States to recognize the importance of protecting our Nation's resources and to observe this month with appropriate events and training to enhance our national security and resilience.

IN WITNESS WHEREOF, I have hereunto set my hand this thirty-first day of October, in the year of our Lord two thousand thirteen, and of the Independence of the United States of America the two hundred and thirty-eighth.

[FR Doc. 2013-26667

Filed 11-4-13; 11:15 am]

Billing code 3295-F4